DEPARTMENT OF TRANSPORTATION

Federal Aviation Administration

Notice of Intent To Rule on Application To Impose and Use the Revenue From a Passenger Facility Charge (PFC) at Louisville International Airport, Louisville, Kentucky

AGENCY: Federal Aviation Administration (FAA), DOT.

ACTION: Notice of intent to rule on application.

SUMMARY: The FAA proposes to rule and invites public comment on the application to impose and use the revenue from a PFC at Louisville International Airport under the provisions of the Aviation Safety and Capacity Expansion Act of 1990 (Title IX of the Omnibus Budget Reconciliation Act of 1990) (Pub. L. 101-508) and Part 158 of the Federal Aviation Regulations (14 CFR Part 158).

DATES: Comments must be received on or before December 29, 2000.

ADDRESSES: Comments on this application may be mailed or delivered in triplicate to the FAA at the following address: Memphis Airports District Office, 3385 Airways Boulevard, Suite 302, Memphis, Tennessee 38116-3841.

In addition, one copy of any comments submitted to the FAA must be mailed or delivered to Mr. James C. DeLong, General Manager of the Regional Airport Authority of Louisville and Jefferson County at the following address: P.O. Box 9129, Louisville, Kentucky 40229

Air carriers and foreign air carriers may submit copies of written comments previously provided to the Regional Airport Authority of Louisville and Jefferson County under section 158.23 of Part 158.

FOR FURTHER INFORMATION CONTACT: Mr. Jerry O. Bowers, Program Manager, Memphis Airports District Office, 3385 Airways Boulevard, Suite 302, Memphis, Tennessee 38116-3841, 901-544-3495, Extension 21. The application may be reviewed in person at this same location.

SUPPLEMENTARY INFORMATION: The FAA proposes to rule and invites public comment on the application to impose and use the revenue from a PFC at Louisville International Airport under the provisions of the Aviation Safety and Capacity Expansion Act of 1990 (Title IX of the Omnibus Budget Reconciliation Act of 1990) (Pub. L. 101-508) and Part 158 of the Federal Aviation Regulations (14 CFR Part 158).

On November 21, 2000, the FAA determined that the application to impose and use the revenue from a PFC submitted by Regional Airport Authority of Louisville and Jefferson County was substantially complete within the requirements of § 158,25 of Part 158. The FAA will approve or disapprove the application, in whole or in part, no later than March 14, 2001.

The following is a brief overview of the application.

PFC Application No.: 01-02-C-00-SDF.

Level of the proposed PFC: $3.00.

Proposed charge effective date: January 1, 2015.

Proposed charge expiration date: April 1, 2018.

Total estimated net PFC revenue: $16,398,940.

Brief description of proposed project(s): Construct West Airfield Perimeter Roads, Acquire a Flight Track Monitoring System, Construct New Aircraft Rescue and Fire Fighting Building, Construct Passenger Terminal Modifications, Construct Charter Terminal/Customs Facility through rehabilitation of an existing passenger terminal facility, and Rehabilitate Northeast Terminal Apron (at proposed Charter/Customs Facility).

Class or classes of air carriers which the public agency has requested not be required to collect PFCs: Air taxi/commercial operator (ATCO), certified air carriers (CAC), and certified route air carriers (CRAC) having fewer than 500 annual enplanements.

Any person may inspect the application in person at the FAA office listed above under FOR FURTHER INFORMATION CONTACT.

In addition, any person may, upon request, inspect the application, notice and other documents germane to the application in person at the Regional Airport Authority of Louisville and Jefferson County.

Issued in Memphis, Tennessee on November 22, 2000.
LaVerne F. Reid,
Manager, Memphis Airports District Office, Southern Region.

[FR Doc. 00-30428 Filed 11-28-00; 8:45 am]

BILLING CODE 4910-13-M